DEPARTMENT OF HEALTH AND HUMAN SERVICES

Food and Drug Administration

[Docket No. 01C-0486]

LycoRed Natural Products Industries; Filing of Color Additive Petition

AGENCY: Food and Drug Administration, HHS.

ACTION: Notice.

SUMMARY: The Food and Drug Administration (FDA) is announcing that LycoRed Natural Products Industries has filed a petition proposing that the color additive regulations be amended to provide for the safe use of tomato lycopene extract to color foods generally.

FOR FURTHER INFORMATION CONTACT: Aydin Örstan, Center for Food Safety and Applied Nutrition (HFS-215), Food and Drug Administration, 200 C St. SW., Washington, DC 20204, 202-418-3076.

SUPPLEMENTARY INFORMATION: Under the Federal Food, Drug, and Cosmetic Act (sec. 721(d)(1) (21 U.S.C. 379e(d)(1))), notice is given that a color additive petition (CAP 1C0273) has been filed by LycoRed Natural Products Industries, c/o TC Associates, Inc., P.O. Box 285, West Boxford, MA 01885. The petition proposes to amend the color additive regulations in 21 CFR part 73 to provide for the safe use of tomato lycopene extract to color foods generally.

The agency has determined under 21 CFR 25.32(k) that this action is of a type that does not individually or cumulatively have a significant effect on the human environment. Therefore, neither an environmental assessment nor an environmental impact statement is required.

Dated: October 17, 2001.
Alan M. Rulis,
Director, Office of Premarket Approval, Center for Food Safety and Applied Nutrition.

[FR Doc. 01-27252 Filed 10-29-01; 8:45 am]

BILLING CODE 4160-01-S